DEPARTMENT OF TRANSPORTATION

Pipeline and Hazardous Materials Safety Administration

[Docket: RSPA-98-4957]

Request for Public Comments and Office of Management and Budget (OMB) Approval of an Existing Information Collection (2137-0593)

AGENCY: Office of Pipeline Safety, Pipeline and Hazardous Materials Safety Administration, Department of Transportation (DOT).

SUMMARY: In compliance with the Paperwork Reduction Act of 1995 (44 U.S.C. 3501 et seq.), this notice announces that the Information Collection Request (ICR) described below has been forwarded to the Office of Management and Budget (OMB) for extension of currently approved collection. The ICR describes the nature of the information collection and the expected burden. The Federal Register Notice with a 60-day comment period soliciting comments on the following collection of information was published on May 23, 2005, [FR 70, page 29554].

DATES: Comments must be submitted on or before September 7, 2005.

ADDRESSES: Send comments to the Office of Information and Regulatory Affairs, Office of Management and Budget, 725-17th Street, NW., Washington, DC 20503, Attention DOT Desk Officer.

FOR FURTHER INFORMATION CONTACT: Florence Hamn, (202) 366-3015, by e-mail at Florence.Hamn@dot.gov.

SUPPLEMENTARY INFORMATION: Comments are invited on whether the proposed collection of information is necessary for the proper performance of the functions of the Department, including whether the information will have practical utility; the accuracy of the Department's estimate of the burden of the proposed information collections; ways to enhance the quality, utility, and clarity of the information to be collected; and ways to minimize the burden of the collection of information on respondents, in including the use of automated collection techniques of other forms of information technology.

Standards in 49 CFR 192.383, “Excess flow valve customer notification,” require that before operators install or replace certain gas service lines, they must notify customers in writing that excess flow valves are available for installation if the customer agrees to pay for the related expenses. Operators also must keep records that include the notice currently in use and evidence that the operator sent notices, as required, during the previous 3 years. The standards were published in response to a statutory mandate in 49 U.S.C. 60110(c).

This information collection supports the DOT strategic goal of safety by reducing the number of fatalities, the number of injuries, and the amount of property damage.

As used in this notice, ‘information collection' includes all work related to preparing and disseminating information related to this recordkeeping requirement including completing paperwork, gathering information and conducting telephone calls.

Type of Information Collection Request: Renewal of Existing Collection.

Title of Information Collection: Recordkeeping Requirements for Excess Flow Valves—Customer Notification.

OMB Approval Number: 2137-0593.

Frequency: A notice is sent before a new service line is installed or an existing service line is replaced.

Use: This collection is used by gas customers to decide whether to have EFVs installed and by government inspectors to review operator compliance.

Estimated Number of Respondents: 1,540.

Estimated annual burden hour: 18,000.

Issued in Washington DC on July 29, 2005.
Florence L. Hamn,
Director, Office of Regulations.

[FR Doc. 05-15560 Filed 8-5-05; 8:45 am]

BILLING CODE 4910-60-P